DEPARTMENT OF VETERANS AFFAIRS

[OMB Control No. 2900-0205]

Proposed Information Collection Activity: Proposed Collection; Comment Request

AGENCY: Veterans Health Administration, Department of Veterans Affairs.

ACTION: Notice.

SUMMARY: The Veterans Health Administration (VHA), Department of Veterans Affairs (VA), is announcing an opportunity for public comment on the proposed collection of certain information by the agency. Under the Paperwork Reduction Act (PRA) of 1995, Federal agencies are required to publish notice in the Federal Register concerning each proposed collection of information, including each proposal revision of a currently approved collection, and allow 60 days for public comment in response to the notice. This notice solicits comments for information needed to evaluate a candidate's credentials for employment with VA.

DATES: Written comments and recommendations on the proposed collection of information should be received on or before February 21, 2006.

ADDRESSES: Submit written comments on the collection of information to Ann W. Bickoff (193E1), Department of Veterans Affairs, 810 Vermont Avenue, NW., Washington, DC 20420 or e-mail: ann.bickoff@va.gov. Please refer to “OMB Control No. 2900-0205” in any correspondence.

FOR FURTHER INFORMATION CONTACT: Ann W. Bickoff at (202) 273-8310 or FAX (202) 273-9381.

SUPPLEMENTARY INFORMATION: Under the PRA of 1995 (Public Law 104-13; 44 U.S.C. 3501—3521), Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Title: Applications & Appraisals for Employment for Title 38 Positions and Trainees.

OMB Control Number: 2900-0205.

Type of Review: Revision of a currently approved collection.

Abstract: VA Forms 10-2850-2850a through c are applications used to elicit information from candidate's qualifications for employment with VA. VA uses the data collected to conduct background, training and education as well as previously held licenses/registrations to meet security and screening requirements. VA Forms 10-2850b and 10-285d are used to collect information on medical residents, health professions trainees and students training appointment. Program directors of affiliated programs complete VA Form Letter 10-341b to confirm that the information listed has been verified by the sponsoring entity for the trainee listed and that the trainee is enrolled in the designated training program. VA uses the information collected to evaluate qualification for employment and training as well as education and professional experience in determining suitability, grade level and clinical privileges.

Affected Public: Individuals or Households, Business or Other For-Profit, Not-For-Profit Institutions, Federal Government, and State, Local or Tribal Government.

Estimated Annual Burden: 123,894 hours.

a. Application for Physicians, Dentists, Podiatrists and Optometrists, Chiropractors, VA Form 10-2850—7,450 hours.

b. Application for Nurses and Nurse Anesthetists, VA Form 10-2850a—29,799 hours.

c. Application for Residents, VA Form 10-2850b—15,893 hours.

d. Application for Associated Health Occupations, VA Form 10-2850c—9,933 hours.

e. Application for Medical, Dental and Associated Health Students, Trainees and Intern VA Form 10-2850d—28,143 hours.

f. Appraisal of Applicant VA Form FL 10-341a—25,410 hours.

Estimated Average Burden Per Respondent: 30 minutes.

a. Application for Physicians, Dentists, Podiatrists and Optometrists, Chiropractors VA Form 10-2850—30 minutes.

b. Application for Nurses and Nurse Anesthetists VA Form 10-2850a—30 minutes.

c. Application for Residents VA Form 10-2850b—30 minutes.

d. Application for Associated Health Occupations VA Form 10-2850c—30 minutes.

e. Application for Medical, Dental and Associated Health Students, Trainees and Intern VA Form 10-2850d—30 minutes.

f. Appraisal of Applicant VA Form FL 10-341a—30 minutes.

Frequency of Response: On occasion.

Estimated Number of Respondents: 320,466.

a. Application for Physicians, Dentists, Podiatrists and Optometrists, Chiropractors VA Form 10-2850-14,900.

b. Application for Nurses and Nurse Anesthetists VA Form 10-2850a—59,598.

c. Application for Residents VA Form 10-2850b—31,786.

d. Application for Associated Health Occupations VA Form 10-2850c—19-866.

e. Application for Medical, Dental and Associated Health Students, Trainees and Intern VA Form 10-2850d—56,286.

f. Appraisal of Applicant—VA Form FL 10-341a—50,820.

Dated: December 8, 2005.
By direction of the Secretary.
Denise McLamb,
Program Analyst, Records Management Service.

[FR Doc. E5-7571 Filed 12-19-05; 8:45 am]

BILLING CODE 8320-01-P